DEPARTMENT OF THE TREASURY

Submission for OMB Review; Comment Request

May 11, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 17, 2005, to be assured of consideration.

Alcohol and Tobacco Tax and Trade Bureau (TTB)

OMB Number: 1513-0018.

Form Number: TTB F 5100.24.

Type of Review: Extension.

Title: Application for Basic Permit under the Federal Alcohol Administration Act.

Description: TTB 5100.24 will be completed by persons intending to engage in a business involving beverage alcohol operation at distilled spirits plants, bonded wineries, or wholesaling/importing business. The information allows TTB to identify the applicant and the location of the business and to determine whether the applicant qualifies for a permit.

Respondents: Business of other for-profit.

Estimated Number of Respondents: 1,600.

Estimated Burden Hours per Respondent: 1 hour, 45 minutes.

Frequency of Response: On occasion.

Estimated Total Reporting Burden: 2,800 hours.

OMB Number: 1513-0019.

Form Number: TTB F 5100.18.

Type of Review: Extension.

Title: Application for Amended Basic Permit under the Federal Alcohol Administration Act.

Description: TTB 5100.18 is completed by permittees who change their operations that require a new permit to be issued or a notice to be issued or a notice to be received by TTB. The information allows TTB to identify the permittee, the changes to the permit or business and to determine whether the applicant qualifies.

Respondents: Business of other for-profit.

Estimated Number of Respondents: 1,200

Estimated Burden Hours per Respondent: 30 minutes.

Frequency of Response: On occasion.

Estimated Total Reporting Burden: 600 hours.

OMB Number: 1513-0021.

Form Number: TTB F 5154.1.

Type of Review: Extension.

Title: Formula and Process for Nonbeverage Product.

Description: Businesses using taxpaid distilled spirits to manufacture nonbeverage products may receive drawback (i.e., a refund or remittance) or tax, if they can show that the spirits were used in the manufacture of products unfit for beverage use. This showing is based on the formula for the product, which is submitted on TTB Form 5154.1.

Respondents: Business of other for-profit.

Estimated Number of Respondents: 611.

Estimated Burden Hours per Recordkeeper: 30 minutes.

Frequency of Response: On occasion.

Estimated Total Reporting Burden: 2,500 hours.

OMB Number: 1513-0023.

Form Numbers: TTB F 5000.29 and TTB F 5000.30.

Type of Review: Extension.

Title: TTB F 5000.29: Environmental Information. TTB F 5000.30: Supplemental Information on Water Quality Consideration under 33 U.S.C. 1342(a).

Description: “Environmental impact statements, Water Pollution Environmental evaluation” TTB F 5000.29 and TTB F 5000.30 implement regulations of the Clean Water Act and the National Environmental Policy Act (NEPA). NEPA authorizes TTB through TTB F 5000.29 to require a license or permit application to state the location of existing or proposed activities concerned with land, air pollution, water and activities related to TTB.

Respondents: Business of other for-profit.

Estimated Number of Respondents: 8,000.

Estimated Burden Hours per Respondent: 30 minutes.

Frequency of Response: On occasion.

Estimated Total Recordkeeping Burden: 4,000 hours.

OMB Number: 1513-0065.

Recordkeeping Requirement ID Number: TTB REC 5170/2.

Type of Review: Extension.

Title: Wholesale Dealers Records of Receipt of Alcoholic Beverages, Disposition of Distilled Spirits and Monthly Summary Report.

Description: An accounting tool, this record is used to show the person from whom a wholesale dealer purchased alcoholic beverages, and the person to whom the dealer sold alcoholic beverages. When required, the monthly report will provide a report of sales activities and on-hand inventory quantities.

Respondents: Business of other for-profit, State, Local or Tribal Government.

Estimated Number of Recordkeepers: 50.

Estimated Burden Hours per Recordkeeper: 2 hours.

Frequency of Response: On occasion.

Estimated Total Recordkeeping Burden: 1,200 hours.

OMB Number: 1513-0073.

Recordkeeping Requirement ID Number: TTB REC 5530/2.

Type of Review: Extension.

Title: Manufacturers of Nonbeverage Products—Records to Support Claims for Drawback.

Description: Records required to be maintained by manufacturers of nonbeverage products are used to verify claims for drawback of taxes and hence, protect the revenue. Maintains accountability; allows tracing or spirits by audit.

Respondents: Business of other for-profit.

Estimated Number of Recordkeepers: 611.

Estimated Burden Hours per Recordkeeper: 21 hours.

Frequency of Response: On occasion.

Estimated Total Recordkeeping Burden: 12,831 hours.

OMB Number: 1513-0075.

Recordkeeping Requirement ID Number: TTB REC 5330/2.

Type of Review: Extension.

Title: Proprietors or Claimants Exporting Liquors.

Description: Distilled spirits, wine and beer may be exported from bonded premises without payment of excise taxes, or, they may be exported if their taxes have been paid and the exporters may claim drawback of the taxes paid. The record is needed to allow the amounts exported to be verified and to maintain accountability over products. The records protect the revenue.

Respondents: Business of other for-profit.

Estimated Number of Recordkeepers: 120.

Estimated Burden Hours per Recordkeeper: 60 hours.

Frequency of Response: On occasion.

Estimated Total Recordkeeping Burden: 7,200 hours.

OMB Number: 1513-0099.

Form Number: None.

Type of Review: Extension.

Title: Administrative Remedies—Closing Agreements.

Description: This is a written agreement between TTB and regulated taxpayers used to finalize and resolve certain tax certain tax related issues. Once an agreement is approved, it will not be reopened unless fraud or misrepresentation of material facts is proven.

Respondents: Business of other for-profit.

Estimated Number of Respondents: 1.

Estimated Burden Hours per Respondent: 1.

Frequency of Response: On occasion.

Estimated Total Reporting Burden: 1 hour.

OMB Number: 1513-0101.

Recordkeeping Requirement ID Number: TTB REC 5210/13.

Type of Review: Extension.

Title: Marks and Notices on Packages of Tobacco Products.

Description: TTB requires that tobacco products be identified by statements of information on packages, cases and containers of tobacco products. TTB uses this information to validate the receipt of excise tax revenue, the determination of tax liability and the verification of claims.

Respondents: Business of other for-profit.

Estimated Number of Recordkeepers: 120.

Estimated Burden Hours per Recordkeeper: 1 hour.

Frequency of Response: On occasion.

Estimated Total Recordkeeping Burden: 1 hour.

OMB Number: 1513-0102.

Recordkeeping Requirement ID Number: TTB REC 5210/2.

Type of Review: Extension.

Title: Drawback of Tax on Tobacco Products and Cigarette Papers and Tubes-Export Shipment.

Description: Exporters may file claim for drawback of tax on tobacco products and cigarette papers and tubes which have been taxpaid and are to be exported. Appropriate records are needed to ensure drawback of tax is properly documented and justified.

Respondents: Business of other for-profit.

Estimated Number of Recordkeepers: 1.

Estimated Burden Hours per Recordkeeper: 5 hours.

Frequency of Response: On occasion.

Estimated Total Recordkeeping Burden: 5 hours.

Clearance Officer: William H. Foster, Alcohol and Tobacco Tax and Trade Bureau, Room 200 East, 1310 G. Street, NW., Washington, DC 20005. (202) 927-8210.

OMB Reviewer: Alexander T. Hunt, Office of Management and Budget, Room 10235, New Executive Office Building, Washington, DC 20503. (202) 395-7316.

Lois K. Holland,
Treasury PRA Clearance Officer.

[FR Doc. 05-9890 Filed 5-17-05; 8:45 am]

BILLING CODE 4810-31-P